DEPARTMENT OF LABOR

Employment and Training Administration

[TA-W-51,557]

Agilent Technologies, Design Validation Division Including Temporary Workers of Volt Technical Services, Colorado Springs, CO; Amended Certification Regarding Eligibility To Apply for Worker Adjustment Assistance

In accordance with section 223 of the Trade Act of 1974 (19 U.S.C. 2273) the Department of Labor issued a Certification of Eligibility to Apply for Worker Adjustment Assistance on May 5, 2003, applicable to workers of Agilent Technologies, Design Validation Division, Colorado Springs, Colorado. The notice was published in the Federal Register on May 19, 2003 (68 FR 27107).

At the request of the State agency, the Department reviewed the certification for workers of the subject firm. Information provided by the company shows that temporary workers of Volt Technical Services were employed at Agilent Technologies, Design Validation Division to produce oscilloscopes and logic analyzers, as well as run control and associated accessories at the Colorado Springs, Colorado location of the subject firm.

Based on these findings, the Department is amending this certification to include temporary workers of Volt Technical Services working at Agilent Technologies, Design Validation Division, Colorado Springs, Colorado.

The intent of the Department's certification is to include all workers of Agilent Technologies, Design Validation Division who were adversely affected by a shift in production to Malaysia.

The amended notice applicable to TA-W-51,557 is hereby issued as follows:

All workers of Agilent Technologies, Design Validation Division, Colorado Springs, Colorado, including temporary workers of Volt Technical Services, producing oscilloscopes and logic analyzers, and also run control and associated accessories at Agilent Technologies, Design Validation Division, Colorado Springs, Colorado, who became totally or partially separated from employment on or after May 26, 2003, through May 5, 2005, are eligible to apply for adjustment assistance under section 223 of the Trade Act of 1974.

Signed in Washington, DC, this 30th day of December, 2003.
Richard Church,
Certifying Officer, Division of Trade Adjustment Assistance.

[FR Doc. 04-1003 Filed 1-15-04; 8:45 am]

BILLING CODE 4910-30-P